DEPARTMENT OF THE INTERIOR

National Park Service

[NPS-WASO-NAGPRA-NPS0026179; PPWOCRADN0-PCU00RP14.R50000]

Notice of Inventory Completion: U.S. Department of the Interior, Bureau of Reclamation, Mid-Pacific Regional Office, Sacramento, CA

AGENCY: National Park Service, Interior.

ACTION: Notice.

SUMMARY: The U.S. Department of the Interior, Bureau of Reclamation (Reclamation), Mid-Pacific Regional Office, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Reclamation, Mid-Pacific Regional Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Reclamation, Mid-Pacific Regional Office at the address in this notice by October 10, 2018.

ADDRESSES: Melanie Ryan, NAGPRA Specialist/Physical Anthropologist, Mid-Pacific Regional Office, Bureau of Reclamation, MP-153, 2800 Cottage Way, Sacramento, CA 95825, telephone (916) 978-5526, email emryan@usbr.gov.

SUPPLEMENTARY INFORMATION: Notice is here given in accordance with the Native American Graves Protection and Repatriation Act (NAGPRA), 25 U.S.C. 3003, of the completion of an inventory of human remains and associated funerary objects under the control of the U.S. Department of the Interior, Bureau of Reclamation, Mid-Pacific Regional Office, Sacramento, CA. The human remains and associated funerary objects were removed from Fresno County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by Reclamation, Mid-Pacific Regional Office professional staff in consultation with representatives of the Picayune Rancheria of Chukchansi Indians of California; Santa Rosa Indian Community of the Santa Rosa Rancheria, California; Table Mountain Rancheria (previously listed as the Table Mountain Rancheria of California); Tejon Indian Tribe; and Tule River Indian Tribe of the Tule River Reservation, California, hereafter referred to as “The Tribes.”

History and Description of the Remains

In 1951, human remains representing, at minimum, three individuals, were removed from Site CA-FRE-105, located near Firebaugh, within the current Firebaugh Wastewater of the Delta-Mendota Canal, Fresno County, CA. Site CA-FRE-105 was encountered at the bottom of a waste way at its juncture with the main canal. The “material (was) scooped up from 7 feet deep in wet clay, from an area that was approximately 200 yards in diameter”. The site record describes the site as “clay soil containing human remains and artifacts.” Human remains and artifacts were collected by Robert E. Greengo of the University of California, Berkeley, and acquired by the Phoebe A. Hearst Museum of Anthropology, University of California, Berkeley, through University Appropriation in 1951 (Accession UCAS-314). The human remains from Site CA-FRE-105 consist of three partially complete Native American individuals, including one possible male adolescent (approximately 15-20 years) and two adults of indeterminate sex. No known individuals were identified. The three associated funerary objects are: one greywacke sandstone slab mortar fragment, one large obsidian flake and one unmodified faunal long bone. An additional associated funerary object, a large obsidian point, is currently missing from the collection.

In 1952, human remains representing, at minimum, two individuals were removed from Site CA-FRE-106, Fresno County, CA, by M.A. Baumhoff of the University of California, Berkeley, and were acquired through University Appropriation in June 1952 (Accession UCAS-157). Museum records describe nearly complete remains of two individuals recovered from a vertically truncated midden site. Individual 1 is an adult female and Individual 2 is an adult male. Both burials were excavated and exhumed, and three additional burials were noted but left in situ. No known individuals were identified. The two associated funerary objects are one large, extensively-shaped greywacke sandstone bowl mortar and one unmodified deer rib bone.

Geographical affiliation is consistent with the historically documented territory of the Northern Valley Yokut. Multiple lines of evidence including oral tradition, ethnographic, archeological, historic, and linguistic information demonstrate continuity and a shared group identity between the human remains and associated funerary objects in this notice and the Yokut tribes. No lineal descendant has been identified. The Tribes identify as Yokut, and are culturally affiliated with the human remains and associated funerary objects in this notice.

Determinations Made by the Reclamation, Mid-Pacific Regional Office

Officials of Reclamation, Mid-Pacific Regional Office, have determined that:

• Pursuant to 25 U.S.C. 3001(9), the human remains described in this notice represent the physical remains of five individuals of Native American ancestry.

• Pursuant to 25 U.S.C. 3001(3)(A), the five objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Melanie Ryan, NAGPRA Specialist/Physical Anthropologist, Mid-Pacific Regional Office, Bureau of Reclamation, MP-153, 2800 Cottage Way, Sacramento, CA 95825, telephone (916) 978-5526, email emryan@usbr.gov, by October 10, 2018. After that date, if no additional requestors have come forward, transfer of control of the human remains and associated funerary objects to The Tribes may proceed.

The Reclamation, Mid-Pacific Regional Office is responsible for notifying The Tribes that this notice has been published.

Dated: August 3, 2018.
Melanie O'Brien,
Manager, National NAGPRA Program.

[FR Doc. 2018-19529 Filed 9-7-18; 8:45 am]

BILLING CODE 4312-52-P